INTERNATIONAL TRADE COMMISSION

[USITC SE-02-009]

Sunshine Act Meeting; Emergency Postponement of Meeting

Agency Holding the Meeting: International Trade Commission.

Place: Room 101, 500 E Street SW, Washington, DC 20436. Telephone: (202) 205-2000.

ACTION: Postponement of meeting.

Original Date/Time: April 1, 2002 at 2:00 p.m.

New Date/Time: April 2, 2002 at 9:30 a.m.

Status: Open to the public.

The Commission has determined to postpone the meeting in Inv. No. 731-TA-925 (Final) (Greenhouse Tomatoes from Canada) from April 1, 2002 at 2:00 p.m. to April 2, 2002 at 9:30 a.m.

Earlier announcement of this notice was not possible.

By order of the Commission.
Issued: March 29, 2002.
Marilyn R. Abbott,
Secretary.

[FR Doc. 02-8135 Filed 4-1-02; 8:45 am]

BILLING CODE 7020-02-P